SURFACE TRANSPORTATION BOARD

[Docket No. FD 36610]

Burns Harbor Shortline Railroad Company—Operation Exemption—in Porter County, Ind.

Burns Harbor Shortline Railroad Company (BHS), a noncarrier,¹ has filed a verified notice of exemption pursuant to 49 CFR 1150.31 to operate a segment of track owned by the State of Indiana and controlled and managed by Ports within the Port of Indiana-Burns Harbor. The track begins at a connection with Norfolk Southern Railway Company (NSR) near the intersection of South Boundary Drive and Sun Drive and extends in a loop configuration northerly, easterly and then southerly to a second connection with NSR near the intersection of East Boundary Drive and Joe Emig Drive, a distance of approximately 4.15 miles in Portage, Porter County, Ind. (the Line).

¹ BHS is a wholly owned subsidiary of Indiana Ports Railroad Holding Corporation (IPR) and an indirect subsidiary of Ports of Indiana (Ports).

This transaction is related to a concurrently filed verified notice of exemption in Ports of Indiana—Continuance in Control Exemption—Burns Harbor Shortline Railroad, Docket No. FD 36611, in which Ports and IPR seek to continue in control of BHS upon BHS's becoming a Class III rail carrier.

According to the verified notice, pursuant to an operating agreement between BHS and Ports,² BHS will provide common carrier rail service on the Line, as Ports and BHS have determined that BHS's operation of the Line and related ancillary trackage would benefit tenants of the Port of Indiana-Burns Harbor and promote the continued development and success of the Burns Harbor port facility.

² A confidential copy of the operating agreement between Ports and BHS was filed under seal as an exhibit to the verified notice.

BHS states that the operating agreement between BHS and the Ports contains no restriction on BHS interchanging traffic with any rail carriers. BHS certifies that its projected annual revenue will not exceed $5 million and that the proposed transaction will not result in BHS's becoming a Class I or II rail carrier.

The earliest this transaction may be consummated is August 18, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than August 11, 2022.

All pleadings, referring to Docket No. FD 36610, must be filed with the Surface Transportation Board either via e-filing on the Board's website or in writing addressed to 395 E Street SW, Washington, DC 20423-0001. In addition, a copy of each pleading must be served on BHS's representative, Thomas J. Healey, Fletcher & Sippel LLC, 29 North Wacker Drive, Suite 800, Chicago, IL 60606-3208.

According to BHS, this action is categorically excluded from environmental review under 49 CFR 1105.6(c) and from historic preservation reporting requirements under 49 CFR 1105.8(b).

Board decisions and notices are available at www.stb.gov.

Decided: July 29, 2022.
By the Board, Mai T. Dinh, Director, Office of Proceedings.
Kenyatta Clay,
Clearance Clerk.

[FR Doc. 2022-16699 Filed 8-3-22; 8:45 am]

BILLING CODE 4915-01-P